DELAWARE RIVER BASIN COMMISSION

Notice of Public Hearing and Business Meeting

Notice is hereby given that the Delaware River Basin Commission will hold a public hearing on Tuesday, May 7, 2013. A business meeting will be held the following day on Wednesday, May 8, 2013. Both the hearing and business meeting are open to the public and will be held at the Washington Crossing Historic Park Visitor Center, 1112 River Road, Washington Crossing, Pennsylvania.

Public Hearing. The public hearing on May 7, 2013 will run from 12:00 p.m. until approximately 4:00 p.m. Hearing items will include draft dockets for withdrawals, discharges and other water-related projects, and resolutions to: (a) Adopt the Commission's annual Budget for the fiscal year ending June 30, 2014 and apportion among the Signatory Parties the amounts required for the support of the Current Expense and Capital Budgets; (b) approve the Fiscal Year 2014-2016 Water Resources Program; and (c) amend the Commission's administrative agreements with Delaware and New Jersey by the addition to “Category F” as defined therein of certain electric generation and co-generation facilities. The latter resolution would provide for the state agency's review and decision-making process to be used in lieu of the Commission's for the category of projects consisting of electric generation and co-generation facilities that consumptively use in excess of 100,000 gallons per day (gpd) of water during any 30-day period, when no other aspect of the project, such as a withdrawal or discharge, subjects it to Commission review pursuant to the Commission's Rules of Practice and Procedure and current administrative agreements. The public is advised to check the Commission's Web site periodically prior to the hearing date, as hearing items may be dropped if additional time is deemed necessary to complete the Commission's review. Written comments on all hearing items will be accepted through the close of the May 7 hearing.

If time allows, the public hearing will be followed by a “public dialogue” session, an opportunity for members of the public to address the Commissioners on any topic of concern. Comments offered during “public dialogue” are not part of an official decision-making record of the Commission. In a departure from past practice, the Commission's business meeting on May 8, 2013 will not include a public dialogue component.

Draft dockets and resolutions scheduled for hearing will be posted on the Commission's Web site at www.drbc.net 10 days prior to the meeting date. Additional public records relating to the hearing items may be examined at the Commission's offices. Please contact Victoria Lawson at 609-883-9500, extension 216, with any questions concerning these items.

Business Meeting. The business meeting on May 8, 2013 will begin at 12:15 p.m. and will include the following items: Adoption of the Minutes of the Commission's March 6, 2013 business meeting, announcements of upcoming meetings and events, a report on hydrologic conditions, reports by the Executive Director and the Commission's General Counsel, and consideration of items for which a hearing has been completed. The Commissioners also may consider action on matters not subject to a public hearing.

Among the items scheduled for consideration on May 8 is Docket No. D-1969-210 CP-13 for the Exelon Generation Company, LLC Limerick Generating Station and Surface Water Augmentation project (“LGS”). A public hearing on the LGS draft docket was held on August 28, 2012, and the written comment period ran from June 28 through October 27, 2012.

There will be no opportunity for additional public comments at the May 8, 2013 business meeting on items for which a hearing was completed on May 7 or a previous date. Commission consideration on May 8 of items for which the public hearing is closed may result in either approval of the docket or resolution as proposed, approval with changes, denial, or deferral. When the Commissioners defer an action, they may announce an additional period for written comment on the item, with or without an additional hearing date, or they may take additional time to consider the input they have already received without requesting further public input. Any deferred items will be considered for action at a public meeting of the Commission on a future date.

Advance Sign-up for Oral Comment. Individuals who wish to comment on an item scheduled for the public hearing on May 7 or to address the Commissioners informally during the public dialogue session to be provided if time allows that day, are asked to sign up in advance by contacting Paula Schmitt by email at paula.schmitt@drbc.state.nj.us or by phone at 609-883-9500 ext. 224.

Attending the Hearing or Meeting. The Commission's hearing and business meeting are open to the public. Without exception, however, photo identification will be required for admission. If you plan to attend, please visit the Commission's Web site, www.drbc.net, in advance of the hearing and meeting to review a complete set of procedures.

Addresses for Written Comment. Written comment on items scheduled for hearing may be delivered by hand at the public hearing or submitted in advance of the hearing date to: Commission Secretary, P.O. Box 7360, 25 State Police Drive, West Trenton, NJ 08628; by fax to Commission Secretary, DRBC at 609-883-9522 or by email to paula.schmitt@drbc.state.nj.us.

Accommodations for Special Needs. Individuals in need of an accommodation as provided for in the Americans with Disabilities Act who wish to attend the public hearing or business meeting should contact the Commission Secretary directly at 609-883-9500 ext. 203 or through the Telecommunications Relay Services (TRS) at 711, to discuss how we can accommodate your needs.

Updates. Items scheduled for hearing are occasionally postponed to allow more time for the Commission to consider them. Other meeting items also are subject to change. Please check the Commission's Web site, www.drbc.net, closer to the hearing and meeting dates for changes that may be made after the deadline for filing this notice.

Additional Information, Contacts. Draft dockets and resolutions for hearing items will be posted on the Commission's Web site, www.drbc.net, as hyperlinks from this notice, approximately 10 days prior to the hearing date. Additional public records relating to hearing items may be examined at the Commission's offices by appointment by contacting Carol Adamovic, 609-883-9500, ext. 249. For other questions concerning dockets, please contact Victoria Lawson at 609-883-9500, ext. 216.

Dated: April 18, 2013.
Pamela M. Bush,
Commission Secretary and Assistant General Counsel.

[FR Doc. 2013-09565 Filed 4-23-13; 8:45 am]

BILLING CODE 6360-01-P